ENVIRONMENTAL PROTECTION AGENCY

40 CFR Part 300

[FRL-6859-3]

National Oil and Hazardous Substances Pollution Contingency Plan; National Priorities List

AGENCY: Environmental Protection Agency (EPA).

ACTION: Direct final deletion of the John Deere Ottumwa Works Site (Site) from the National Priorities List (NPL).

SUMMARY: EPA Region VII announces the deletion of the John Deere Ottumwa Works Site (Site) from the NPL and requests public comment on this action. The NPL constitutes Appendix B of 40 CFR part 300 which is the National Oil and Hazardous Substances Pollution Contingency Plan (NCP), which EPA promulgated pursuant to Section 105 of the Comprehensive Environmental Response, Compensation and Liability Act (CERCLA) of 1980, as amended (CERCLA). EPA and the Iowa Department of Natural Resources (IDNR) have determined that all appropriate response actions have been implemented and remedial actions conducted at the site to date remain protective of human health and the environment.

DATES: This “direct final” action will be effective January 22, 2001 unless EPA receives significant adverse or critical comments by December 22, 2000. If written dissenting comments are received, EPA will publish a timely withdrawal of the direct final rule in the Federal Register informing the public that the rule will not take effect.

ADDRESSES: Comments may be mailed to Debra L. Kring, Environmental Protection Specialist, U.S. Environmental Protection Agency, 901 North 5th Street, Kansas City, KS 66101. Comprehensive information on this Site is available through the public docket which is available for viewing at the U.S. EPA Region VII Superfund Division Records Center, 901 North 5th Street, Kansas City, KS 66101.

FOR FURTHER INFORMATION CONTACT: Debra L. Kring, U.S. Environmental Protection Agency, Superfund Division, 901 North 5th Street, Kansas City, KS 66101, (913) 551-7725, fax (913) 551-7063.

SUPPLEMENTARY INFORMATION:

Table of Contents

I. Introduction

II. NPL Deletion Criteria

III. Deletion Procedures

IV. Basis of Intended Site Deletion

V. Action

I. Introduction

The Environmental Protection Agency (EPA), Region VII announces the deletion of the John Deere Ottumwa Works site, Ottumwa, Iowa from the NPL, Appendix B of the National Oil and Hazardous Substances Pollution Contingency Plan (NCP), 40 CFR part 300. The EPA identifies sites that appear to present a significant risk to public health, welfare, or the environment and maintains the NPL as the list of these sites. EPA and the Iowa Department of Natural Resources (IDNR) have determined that the remedial action at the Site has been successfully executed. EPA will accept comments on this notice thirty days after publication of this document in the Federal Register.

Section II of this action explains the criteria for deleting sites from the NPL. Section III discusses the procedures that EPA is using for this action. Section IV discusses the history of the John Deere Ottumwa Site and explains how the Site meets the deletion criteria. Section V states EPA's action to delete the releases of the Site from the NPL unless dissenting comments are received during the comment period.

II. NPL Deletion Criteria

Section 300.425(e) of the NCP provides that sites may be deleted from, or recategorized on the NPL where no further response is appropriate. In making a determination to delete a release from the NPL, EPA shall consider, in consultation with the state, whether any of the following criteria have been met:

(i) Responsible parties or other persons have implemented all appropriate response actions required;

(ii) All appropriate Fund-financed response under CERCLA has been implemented, and no further response action by responsible parties is appropriate; or

(iii) The remedial investigation has shown that the release poses no significant threat to public health or the environment and, therefore, taking of remedial measures is not appropriate.

Even if the site is deleted from the NPL, where hazardous substances, pollutants, or contaminants remain at the site above levels that allow for unlimited use and unrestricted exposure, EPA's policy is that a subsequent review of the site will be conducted at least every five years after the initiation of the remedial action at the site to ensure that the remedy remains protective of public health and the environment. A five-year review was conducted at the John Deere Ottumwa Works Site in 1998. Based on that review, EPA in consultation with the State, determined that conditions at the site remain protective of human health and the environment. As explained below, the Site meets the NCP's deletion criteria listed above. If new information becomes available which indicates a need for further action, EPA may initiate remedial actions. Whenever there is a significant release from a site deleted from the NPL, the site shall be restored to the NPL without the application of the Hazard Ranking System (HRS).

III. Deletion Procedures

The following procedures were used for the intended deletion of the release from this Site: (1) All appropriate response under CERCLA has been implemented and no further action by EPA is appropriate; (2) The Iowa Department of Natural Resources concurred with the proposed deletion decision; (3) A notice has been published in the local newspaper and has been distributed to appropriate federal, state, and local officials and other interested parties announcing the commencement of a 30-day dissenting public review. The EPA is requesting only dissenting comments on the Direct Final Action to Delete.

For deletion of the release from the Site, EPA's Regional Office will accept and evaluate public comments on EPA's Final Notice before making a final decision to delete. If necessary the Agency will prepare a Responsiveness Summary, responding to each significant comment submitted during the public comment period. Deletion of the site from the NPL does not itself create, alter, or revoke any individual's rights or obligations. The NPL is designated primarily for informational purposes and to assist Agency management. As mentioned in Section II of this document, § 300.425(e)(3) of the NCP states that the deletion of a release from a site from the NPL does not preclude eligibility for future response actions.

IV. Basis of Intended Site Deletion

The following site summary provides the Agency's rationale for the proposal to delete this site from the NPL.

Site Background and History

The John Deere Ottumwa Works Site is located in Ottumwa, Iowa, Wapello County, and includes a 118-acre tract of land which has been used for the manufacture of farm implements since 1946. From 1911 until 1973, the company disposed of approximately 3,000 tons of solvents, paint sludges, acids, heavy metals, and cyanide on site. The site is located 200 feet from prime agricultural land. Approximately 700 people obtain drinking water from private wells located within 3 miles of the site. The main water supply for Ottumwa, population 27,000, is the Des Moines River; the intake is 4,000 feet upstream from the John Deere landfills. The river also is used for recreational activities. The city's secondary water supply, which is used intermittently throughout the year, is the Black Lake. It is located 500 feet down gradient of the on-site landfills. Low levels of various heavy metals from site disposal activities were detected in the soil, surface water, and sediments. Also, low levels of methylene chloride, a volatile organic compound (VOC), were detected in the soil and sediments. Potential risks may have existed for individuals who accidently ingested or came into direct contact with the contaminated soil and surface water.

The John Deere Ottumwa Works Site was placed on the National Priorities List (NPL) on February 21, 1990. Under EPA oversight, the John Deere Company began remedial investigation activities in 1990 to determine the type and extent of contamination. Field work was completed in late 1990, and the investigation was completed in late 1991. Based on the results of this investigation, the EPA selected a remedy requiring the John Deere Company to maintain the existing fence around the site and to continue monitoring the groundwater to ensure that it remains safe. In addition, the property and State Highway right-of-way deed restrictions now limit site use to non-residential activities. A Record of Decision (ROD) explaining the remedy selected for this site was signed by EPA on September 23, 1991.

In September 1992, the John Deere Company and the Department of Transportation entered into a Consent Decree with EPA to implement the selected remedy. Since that time, EPA has continued to conduct oversight activities, as well as reviewing and evaluating sampling data provided by the John Deere Company. In January 1998, a Five-Year Review Report was signed by EPA which defined current site conditions, remedy protectiveness, and recommendations for next steps. As one of the recommendations, EPA responded to a September 1997 Deere Company request that certain monitoring wells be abandoned in accordance with State and federal regulations. The EPA requested that one full round of sampling be conducted prior to the abandonment exercise to discern compound levels and evaluate which wells would remain as background wells to prevent off-site migration of contamination. Sampling was conducted in March 1999 at 11 monitoring wells and 2 piezometers for total arsenic, barium, cadmium, chromium, lead, VOCs, and semi-volatiles. Sampling results showed no levels above MCLs. Based on this outcome, eight (8) wells and 1 piezometer were abandoned in January 2000 in accordance with State and federal regulations.

The Five-Year Review was completed in January 1998 and indicated that remedial objectives had been met. These objectives include institutional controls which require the maintenance of an eight-foot high chain-link fence topped with barbed wire, and the lodging of deed restrictions which prevent the future development of residences or other similar exposure situations on site. Groundwater and surface water monitoring will hereby be discontinued subsequent to future Five-Year Reviews which may reveal the need for additional monitoring. The selected remedy does not reduce toxicity, mobility, or volume through treatment, however, it has been determined by EPA to represent the maximum extent required to protect human health and the environment. The remedy selection also ensures on a long-term basis that the sensitive population, children, are not exposed to site waste, thereby preventing the only potentially unacceptable exposure scenario from occurring. The Hazard Index (HI) associated with children directly contacting waste material is slightly above one. No unacceptable site-related cancer risks were identified. There were no Federal or State ARARs to be considered for this remedy.

Operations and Maintenance

Limited maintenance is required at this site. Long-term maintenance and groundwater monitoring have been conducted by the John Deere Ottumwa Company. This site is also an active RCRA facility and is monitored by RCRA as well as the Superfund Program.

Five-Year Review

The Comprehensive Environmental Response, Compensation and Liability Act (CERCLA) requires five-year review of all sites where hazardous substances remain above health-based levels for unrestricted use of the site. Under CERCLA Section 121(c), a review is also conducted to ensure that the selected remedy continues to be protective of human health and the environment. The next five-year review at this site is scheduled for the year 2003.

V. Action

The remedy selected for this site has been implemented in accordance with the Record of Decision. Therefore, no further response action is necessary. The remedy has resulted in the significant reduction of the long-term potential for release of contaminants, therefore, human health and potential environmental impacts have been minimized. The EPA and the Iowa Department of Natural Resources find that the remedy implemented continues to provide adequate protection of human health and the environment.

The EPA, with concurrence of the State of Iowa, has determined that the criteria for deletion of the release have been met. Therefore, EPA is deleting the site from the NPL.

This action will be effective January 22, 2001. However, if EPA receives dissenting comments by December 22, 2000, EPA will publish a document that withdraws this action.

List of Subjects in 40 CFR Part 300

Environmental protection, Air pollution control, Chemicals, Hazardous substances, Hazardous waste, Intergovernmental relations, Penalties, Reporting and recordkeeping requirements, Superfund, Water pollution control, Water supply.

Dated: August 17, 2000.
William Rice,
Acting Regional Administrator, Region VII.

Part 300, title 40 of chapter 1 of the Code of Federal Regulations is amended as follows:

PART 300—[AMENDED]

1. The authority citation for part 300 continues to read as follows:

Authority: 33 U.S.C. 1321(c)(2); 42 U.S.C. 9601-9657; E.O. 12777, 56FR 54757, 3CFR, 1991 Comp.; p.351; E.O. 12580, 52 FR 2923, 3 CFR, 1987 Comp.; p.193.

Appendix B [Amended]

2. Table 1 of Appendix B to Part 300 is amended by removing the site for “John Deere Ottumwa Works Landfills, Ottumwa, Iowa”.

[FR Doc. 00-29642 Filed 11-21-00; 8:45 am]

BILLING CODE 6560-50-U